Title 3—

The President

Proclamation 10476 of October 12, 2022

Establishment of the Camp Hale-Continental Divide National Monument

By the President of the United States of America

A Proclamation

The Camp Hale and Tenmile Range area lies along the continental divide in north-central Colorado and is treasured for its historical and spiritual significance, stunning geological features, and unique wildlife and plants. The rugged landscape serves as a living testament to a pivotal moment in America's military history, as these peaks and valleys forged the elite soldiers of the famed 10th Mountain Division—the Army's first and only mountain infantry division—which helped free Europe from the grip of Nazi control in World War II. The area is also foundational to preserving and interpreting the story of 10th Mountain Division veterans who, after their return from World War II, applied the skills they learned in the Camp Hale and Tenmile Range area to establish America's skiing and outdoor recreation industry. Today, the largely undeveloped peaks, slopes, and valleys of the Camp Hale and Tenmile Range area provide veterans, their families, and other visitors with a place to learn the history of the 10th Mountain Division; to honor their sacrifices and contributions to our Nation; and to experience firsthand the formidable environs that taught American soldiers to endure extreme mountain terrain, deep snow, and punishing cold. This endurance proved pivotal to the success of the United States and its allies in World War II when, in February 1945, the 10th Mountain Division successfully scaled a 1,500-foot cliff face to capture a German position in the Apennine Mountains, helping the Allies to break through the German defensive line in Italy and push further into Europe.

The Army began construction of Camp Hale in April of 1942 in the Pando Valley after the Department of Agriculture authorized the War Department to use 179,000 acres of National Forest lands to train soldiers to climb and ski in preparation for operations in harsh, cold, high-altitude areas. The valley floor—which sits at 9,200 feet in elevation—was broad enough to hold a large encampment, and the Eagle River, which passes through the valley, provided a year-round water supply. Near the encampment were training grounds fit for the Army's purpose, including the rugged Tenmile Range's rock faces, deep snow, and frigid temperatures. The site also took advantage of existing infrastructure, such as the nearby rail system and highway, which remain important arteries through the Rocky Mountains.

Visitors can see traces of the life of the thousands of young servicemen and approximately 200 servicewomen who were stationed at Camp Hale along the valley floor, surrounded on all sides by forested hills and mountains stretching up to more than 14,000 feet. At its height, Camp Hale sprawled across nearly 1,500 acres. Its 1,000 buildings included 245 barracks (which could house more than 15,000 soldiers), mess halls, warehouses, training facilities, firing ranges, administrative buildings, stables, corrals, a veterinary center, theaters, chapels, a field house, and a hospital. The camp also featured parade grounds, recreation areas, gunnery ranges, a combat range, ski hills, a stockade, a motor pool, railyards, and an extensive road and bridge network. Several contiguous areas on the side slopes of the valley also served as training areas for skiing and rock climbing, storage areas for ammunition, and target training sites.

Between April and November of 1942, hundreds of construction workers—many living in harsh conditions in tents, trailers, and even in cars and trucks—rushed to build Camp Hale. Racial discrimination against Hispanic and Black construction workers at the camp caught national attention and led to an investigation by the War Production Board, prompting the United States Army to issue an order against racial discrimination in war construction projects in the region. This history—and the history of segregation within the Army itself during World War II—is a critical component of the experience of visiting and understanding Camp Hale.

Camp Hale opened for operation on November 16, 1942. Following the conclusion of the war, the Army used the camp only sporadically until its permanent closure in 1965. At that time, many facilities were removed or buried; however, much of the camp remains visible today, and the site was placed on the National Register of Historic Places in 1992. The layout of the camp can be discerned from its grid-like road system, formed by 3 major north-south roads and 21 east-west crossing streets, many of which are identifiable or still in use. Concrete foundations for the warehouse area, the Corps Area Service Command compound, the division headquarters, and the barracks extend across the valley floor. In the center of the site lie remnants of the field house, including buttresses and the floor slab. Evidence of six ammo bunkers in the magazine area, which provided ammunition storage for the camp, occupy a small saddle on the northeast side of the valley. On a hill just to the south of the magazine area remain the footers of the four water tanks that supplied the camp. At the eastern edge of the camp, the rifle range remains largely intact, and the range's target butts—a long series of rooms built of reinforced concrete—can still be seen. The area around the camp also includes remnants of the training that occurred there: the original pitons used to train technical climbing are embedded in several northeastern cliffs, and the remains of a tow and lift can be seen along two ski hills at the south end of the valley.

While Camp Hale was in operation, training exercises occurred among the peaks and slopes around Camp Hale and in the Tenmile Range. Today, the peaks that remain undeveloped around Camp Hale—which include Pearl Peak, Sheep Mountain, and Taylor Hill—and in the Tenmile Range—which include Peaks 1, 3, 4, and 5; the western slopes of Peaks 6 through 10; Tenmile Peak; and several other named peaks (such as the 14,625-foot Quandary Peak) that extend to the south—are largely unchanged since the 1940s. The entire landscape of the Camp Hale and Tenmile Range area, therefore, serves as a kind of living museum, allowing visitors to imagine and understand what life was like for the young servicemen in the 10th Mountain Division.

Camp Hale and its surroundings, including the undeveloped areas of the Tenmile Range, were used to train the 10th Mountain Division, the 99th Infantry Battalion, and other units in mountain and winter warfare. This iconic location inspired military innovation. While training there, the 99th Infantry Battalion—a unique, Norwegian-speaking military unit that consisted primarily of Norwegian nationals and Americans of direct Norwegian descent—developed a mount for heavy machinery using two skis. Following World War II, Camp Hale's unique attributes supported highly classified national security efforts. In the late 1950s, the Central Intelligence Agency trained various special mission teams at Camp Hale, including nearly 170 Tibetans for operations in China against the communist government.

The area is also foundational to the history of the United States ski and outdoor recreation industry and thus has had a profound impact on American culture. Veterans of the 10th Mountain Division founded or managed more than 60 ski resorts upon their return from deployment, some in the same mountains where they had trained. The remnants of the Mount Royal/Peak One Ski Jumps, including a scaffold that supported the judges' platform, can also be found in the area. Other veterans from Camp Hale would go on to become trailblazers in conservation and outdoor education and recreation: David Brower served as the first executive director of the Sierra Club; Paul Petzoldt founded the National Outdoor Leadership School; and Fritz Benedict founded the 10th Mountain Division Hut Association, which manages a network of 30 mountain huts—including three in the Camp Hale and Tenmile Range area—that enable backcountry skiers, mountain bikers, and hikers to access and experience the historic and scientific objects found there. Journeying to the Camp Hale and Tenmile Range area of the continental divide allows visitors to experience the mountains and valleys that inspired these veterans to make important contributions to conservation and recreation and to learn about and reflect on the mark they left on America when they returned from service during war.

The Camp Hale and Tenmile Range area is also rich in ancient human history. The area bears the marks of centuries of habitation by Indigenous peoples who have called the region home since time immemorial and who referred to this area of the Rocky Mountains as Káava'avichi—meaning “mountains laying down.” Forced from much of their homelands when precious minerals were discovered, their history serves as a stark reminder that the United States' commitment to its highest ideals of democracy, liberty, and equality has too often been imperfect, particularly for Tribal Nations and Indigenous peoples. For thousands of years, the Ute people traveled to the Pando Valley when winter snows melted as part of an annual migration circuit to hunt game and collect medicinal plants. The area also served as an important transportation corridor for those traveling to sacred hot springs in Glenwood Springs, and the traditional Ute trail lies under the road that runs along the Eagle River today. Evidence of these ancient occupants is found at hundreds of sites, including lithic scatters, a high-elevation prehistoric camp, and stone circles where projectile points and prehistoric tools have been found. Burial sites of historic connection to the Ute Tribes—and of importance to them today—can also be found in the area with funerary objects and the remains of ancestral peoples who lived in the area thousands of years ago. One such site holds the 8,000-year-old remains of an ancient Ute—believed by some to have been a person of great stature in the Ute community. Some of the objects of cultural importance to the Ute Tribes are sensitive, rare, or vulnerable to vandalism and theft; therefore, revealing their specific names and locations could pose a danger to the objects.

As a result of the 1873 Brunot Agreement and an 1880 Congressional declaration, the Ute Tribes forcibly relinquished the Camp Hale and Tenmile Range areas (and much of the rest of their homelands), and retained only small portions of their ancestral homelands on reservations in southwestern Colorado and eastern Utah. More than a century later, however, the Camp Hale and Tenmile Range area remains culturally important to the Ute people, who consider the area an important place to honor their ancestors. They continue to return to the region to forage for medicinal and ceremonial plants, hunt, and fish.

The area is replete with evidence of the mining activity that sparked the exclusion of the Ute people and drove development in the region in the late 19th century. Perched on the side of Mount Royal at an elevation of 9,600 feet and named after the Pennsylvania hometown of one of its investors, the Masontown mining site once included a mill, numerous mine shafts, and a boarding house and homes that accommodated several hundred workers, until an avalanche destroyed the mill in 1912. Today, visitors along the Masontown Trail in the north end of the Tenmile Range area can observe remnants of the mill site, including bricks from the foundations of cabin ruins, miscellaneous containers, and pieces of metal equipment.

Other sites of historical interest exist in the area. To support the burgeoning mining industry in the region, railroad lines running through Tenmile Canyon on the northern end of the Tenmile Range were constructed by the 1880s to connect small mountain settlements with Denver. Evidence remains of these historic rail lines and rail beds, as well as rock structures that were built to support railroad construction. The purpose of these unique rock structures, known as stone huts, remains a mystery, but they may have been used by Canadian woodcutters who worked on the construction of railroads.

An exhaustive survey and study of the entire area has not been completed; archaeologists and military and other historians anticipate that many other such culturally and historically important sites remain to be discovered throughout the area, thereby enriching our understanding of the area's significance.

In addition to the numerous objects in the region that document the history of America and ancient peoples, Camp Hale and the Tenmile Range form a geologically and ecologically linked landscape—rugged and stunning in appearance—that contains numerous features of scientific interest, including tarns, waterfalls, and alpine tundra. The continental divide—a defining high-altitude geologic feature of the Western Hemisphere that separates the watersheds of the Pacific and Atlantic Oceans—stretches along the southern border of both the Camp Hale and the Tenmile Range landscapes. Visitors can travel along the Continental Divide National Scenic Trail, which passes through the area, to explore the changing geology and ecology along the spine of the continent.

The area's geology and irregular topography formed during the Pleistocene glacial period when retreating glaciers deposited a large terminal moraine north of the current day Camp Hale, damming the Eagle River and forming an adjacent lake basin. When the lake ultimately overflowed, the Eagle River cut a new channel forming the deep, narrow canyon the river occupies today while leaving the lake intact. Over time, the lake drained, and the former lake floor became the broad, flat Pando Valley.

To the east, the Pando Valley abruptly gives way to the soaring peaks of the Tenmile Range, which stretches to the continental divide. The range boasts 10 peaks over 13,000 feet in elevation, including Quandary Peak, which, at 14,265 feet, is one of Colorado's iconic and most-visited “Fourteeners.” The slopes of these peaks are home to several high-alpine lakes, including the Pacific Tarn to the southeast of Pacific Peak, which, at 13,420 feet, is the highest named lake in the United States. Waterfalls descend the slopes—including Continental Falls, Mohawk Basin Falls, and McCullough Gulch Falls—and are components of a hydrologic system that defines the mountain west. Rock, too, descends from the range. Studied for decades, the Spruce Creek rock glacier, which is fed by a rockfall from Pacific Peak's northeast cirque, has advanced our understanding of the flow mechanics and morphology of rock glaciers.

The area's high peaks and alpine valleys contain rare and fragile native alpine tundra ecosystems that include species uniquely adapted to high altitudes. Two of the four known populations of the Weber's drab—a diminutive plant with yellow flowers standing only a few inches tall—can be found in the Tenmile Range. Fewer than 300 known individual plants of this species exist across 4 distinct populations distributed over 7 square miles. The diminutive plant is most often found in the splash zones of rocky crevices along streams near the timberline. Ephemeral pools caused by snowmelt among boulders and high-altitude alpine lakes in the area also host the rare and aptly named ice grass. Tiny in stature—standing less than an inch tall—ice grass can be found only in cold, high-altitude regions. The grass appears in only isolated, disjunct areas in Colorado, with the next nearest known population located hundreds of miles away in northwest Wyoming.

Among the Engelman spruce, subalpine fir, lodgepole pine, and quaking aspen stands that dominate the area, visitors might glimpse Canada lynx—a federally listed threatened species—or the boreal toad—Colorado's only alpine species of toad and a Forest Service sensitive species that inhabits subalpine forest wetlands at elevations between 8,500 feet and 11,500 feet. The area is an important habitat connectivity corridor for lynx and related species. Spruce and McCullough Creeks hold populations of green lineage Colorado River cutthroat trout—also a Forest Service sensitive species—that are core conservation populations under the Colorado River Cutthroat Trout Conservation Strategy. The area also provides a habitat for mountain goats, moose, bighorn sheep, Rocky Mountain elk, mule deer, black bears, mountain lions, bobcats, bald eagles, white-tailed ptarmigans, hoary bats, olive-sided flycatchers, martens, pygmy shrews, boreal owls, northern goshawks, and several species of waterfowl.

In light of threats posed by vandalism, unmanaged recreation, and climate change, protecting the Camp Hale and Tenmile Range area of the continental divide will preserve its historic and prehistoric legacy and maintain its diverse array of natural and scientific resources, ensuring that the historic and scientific values of the area remain for the benefit of all Americans. Reserving this area would also honor the valor and sacrifice of the 10th Mountain Division, secure ongoing opportunities for Tribal communities to continue spiritual and subsistence practices, and enable the region's modern communities and the Nation to continue to benefit from the area's world class outdoor recreation opportunities.

WHEREAS, section 320301 of title 54, United States Code (the “Antiquities Act”), authorizes the President, in his discretion, to declare by public proclamation historic landmarks, historic and prehistoric structures, and other objects of historic or scientific interest that are situated upon the lands owned or controlled by the Government of the United States to be national monuments, and to reserve as a part thereof parcels of land, the limits of which in all cases shall be confined to the smallest area compatible with the proper care and management of the objects to be protected; and

WHEREAS, I find that each of the objects identified above is an object of historic or scientific interest in need of protection under 54 U.S.C. 320301; and

WHEREAS, I find that the Camp Hale and Tenmile Range area of the continental divide is an important part of the history of the United States military and of the outdoor recreation industry; and

WHEREAS, I find that the Camp Hale and Tenmile Range area of the continental divide is sacred to sovereign Tribal Nations and Indigenous peoples of the United States; and

WHEREAS, I find that the Camp Hale and Tenmile Range area of the continental divide contains rare and fragile ecosystems and geological features that are of scientific interest; and

WHEREAS, I find that the unique and historical nature of the lands that make up the Camp Hale and Tenmile Range area of the continental divide and the collection of objects of historic and scientific interest therein make the landscape of the Camp Hale and Tenmile Range area itself an object of historic and scientific interest; and

WHEREAS, I find that there are threats to the objects identified in this proclamation; and

WHEREAS, I find that, in the absence of a reservation under the Antiquities Act, the objects identified in this proclamation are not adequately protected by otherwise applicable law or administrative designations because neither provide Federal agencies with the specific mandate to ensure proper care and management of the objects, nor do they withdraw the lands from the operation of the public land, mining, and mineral leasing laws; and

WHEREAS, I find that a national monument reservation is necessary to protect the objects of historic and scientific interest in the Camp Hale and Tenmile Range area of the continental divide for current and future generations; and

WHEREAS, I find that the boundaries of the monument reserved by this proclamation represent the smallest area compatible with the proper care and management of the objects of scientific or historic interest to be protected as required by the Antiquities Act; and

WHEREAS, it is in the public interest to ensure the preservation and protection of the objects of scientific and historic interest in the Camp Hale and Tenmile Range area of the continental divide;

NOW, THEREFORE, I, JOSEPH R. BIDEN JR., President of the United States of America, by the authority vested in me by section 320301 of title 54, United States Code, hereby proclaim the objects identified above that are situated upon lands and interests in lands owned or controlled by the Federal Government to be the Camp Hale-Continental Divide National Monument (monument) and, for the purpose of protecting those objects, reserve as part thereof all lands and interests in lands owned or controlled by the Federal Government within the boundaries described on the accompanying maps, which are attached hereto and form a part of this proclamation. These reserved Federal lands and interests in lands encompass approximately 53,804 acres. As a result of the distribution of the objects across the landscape of the Camp Hale and Tenmile Range area of the continental divide, and additionally and independently, because the landscape itself is an object in need of protection, the boundaries described on the accompanying maps are confined to the smallest area compatible with the proper care and management of the objects of historic or scientific interest identified above.

All Federal lands and interests in lands within the boundaries of the monument are hereby appropriated and withdrawn from all forms of entry, location, selection, sale, or other disposition under the public land laws or laws applicable to the Forest Service, including withdrawal from location, entry, and patent under the mining laws, and from disposition under all laws relating to mineral and geothermal leasing.

If the Federal Government subsequently acquires any lands or interests in lands not currently owned or controlled by the Federal Government within the boundaries described on the accompanying maps, such lands and interests in lands shall be reserved as a part of the monument, and objects identified above that are situated upon those lands and interests in lands shall be part of the monument, upon acquisition of ownership or control by the Federal Government.

The Secretary of Agriculture (Secretary), through the Forest Service, shall manage the monument pursuant to applicable legal authorities and in accordance with the terms, conditions, and management direction provided by this proclamation. The Secretary shall prepare, in consultation with the Secretary of the Interior, a management plan for the monument, which shall include provisions for continuing outdoor recreational opportunities consistent with the proper care and management of the objects identified above, and shall promulgate such regulations for its management as deemed appropriate. The Secretary shall provide for maximum public involvement in the development of the management plan, including consultation with federally recognized Tribal Nations, State and local governments, and other interested stakeholders. The final decision over any management plans and any management rules and regulations rests with the Secretary. Management plans or rules and regulations developed by the Secretary of the Interior governing uses within national parks or national monuments administered by the Secretary of the Interior shall not apply within the monument.

For purposes of protecting and restoring the objects identified above, the Secretary shall prepare a travel management plan to ensure appropriate access for the management and use of the area, which shall provide for motorized and non-motorized mechanized vehicle uses, including mountain biking, consistent with the proper care and management of the objects identified above. Unless inconsistent with the proper care and management of the objects identified above, non-motorized mechanized vehicle uses, including mountain biking, shall continue to be permitted on the roads and trails designated for such uses on the date of this proclamation.

Nothing in this proclamation shall be deemed to enlarge or diminish the rights or jurisdiction of any Tribal Nation. The Secretary shall, to the maximum extent permitted by law and in consultation with Tribal Nations, ensure the protection of sacred sites and traditional cultural properties and sites in the monument and provide access to Tribal members for traditional cultural, spiritual, and customary uses, consistent with the American Indian Religious Freedom Act (42 U.S.C. 1996) and Executive Order 13007 of May 24, 1996 (Indian Sacred Sites), including collection of medicines, berries and other vegetation, forest products, and firewood for personal noncommercial use in a manner consistent with the proper care and management of the objects identified herein.

In recognition of the importance of these lands and objects to Tribal Nations, and to ensure that management decisions affecting the monument reflect Tribal expertise and Indigenous Knowledge, the Secretary shall meaningfully engage with Tribal Nations with cultural ties to the area, including the Ute Tribes, in the development of the management plan and to inform subsequent management of the monument. The Secretary shall pursue opportunities for co-stewardship through management planning and implementation, including entering into cooperative agreements with Tribal entities that have cultural ties to the monument, and shall explore opportunities to provide support to Tribal Nations to participate in the planning and management of the monument.

The establishment of this monument is subject to valid existing rights, including valid existing water rights. Consistent with the proper care and management of the objects identified above, nothing in this proclamation shall be construed to preclude the renewal or assignment of, or interfere with the operation, maintenance, replacement, modification, or upgrade of existing water infrastructure, including flood control, pipeline, or other water management infrastructure; State highway corridors or rights-of-way; or existing utility and telecommunications rights-of-way or facilities within or adjacent to the boundaries of existing authorizations within the monument. Nothing in this proclamation shall be deemed to affect the operation or use of the existing railroad corridor as a railroad right-of-way pursuant to valid existing rights or for recreational purposes consistent with the proper care and management of the objects identified above. Existing water resource, flood control, utility, pipeline, or telecommunications facilities located within the monument may be expanded, and new facilities may be constructed within the monument, to the extent consistent with the proper care and management of the objects identified above and subject to the Secretary's special uses authorities and other applicable law.

Nothing in this proclamation shall affect the responsibilities and authorities of the Department of Defense under applicable environmental laws for the remediation of hazardous substances or munitions or explosives of concern within the monument boundaries, nor affect any Department of Defense activities on lands not included within the monument. To further the protective purposes of the monument, the Secretary shall explore entering into a memorandum of understanding with the Secretary of Defense that would address collaboration between the Departments, pursuant to applicable laws and regulations, to support the remediation of hazardous substances or munitions or explosives of concern while ensuring the protection of the monument objects identified above, as well as implementing any needed controls for explosives safety. The Secretary and the Secretary of Defense shall cooperate and coordinate regarding access to carry out necessary response actions under applicable environmental laws.

Nothing in this proclamation shall affect the Forest Service's ability to authorize access to and remediation of contaminated lands within the monument, including for remediation of mine, mill, or tailing sites, or for the restoration of natural resources.

Nothing in this proclamation shall preclude low-level overflights of military aircraft, flight testing or evaluation, the designation of new units of special use airspace, or the use or establishment of military flight training routes or transportation over the lands reserved by this proclamation.

Nothing in this proclamation shall be deemed to enlarge or diminish the jurisdiction of the State of Colorado with respect to fish and wildlife management.

Laws, regulations, and policies followed by the Forest Service in issuing and administering grazing permits on all lands under its jurisdiction shall continue to apply with regard to the lands in the monument.

The Secretary may carry out vegetative management treatments within the monument consistent with the proper care and management of the objects identified above, except that commercial timber harvest may only be used when the Secretary determines it appropriate to address ecological restoration or the risk of wildfire, insect infestation, or disease that would endanger the objects identified in this proclamation or imperil public safety.

Nothing in this proclamation shall be construed to alter the authority or responsibility of any party with respect to emergency response activities within the monument, including wildland fire response, or to preclude avalanche control efforts within or adjacent to the monument, including efforts to mitigate avalanche risks to neighboring communities, roads and infrastructure, or recreation facilities or destinations.

Nothing in this proclamation shall be deemed to revoke any existing withdrawal, reservation, or appropriation; however, the national monument shall be the dominant reservation.

Warning is hereby given to all unauthorized persons not to appropriate, injure, destroy, or remove any feature of the monument and not to locate or settle upon any of the lands thereof.

If any provision of this proclamation, including its application to a particular parcel of land, is held to be invalid, the remainder of this proclamation and its application to other parcels of land shall not be affected thereby.

IN WITNESS WHEREOF, I have hereunto set my hand this twelfth day of October, in the year of our Lord two thousand twenty-two, and of the Independence of the United States of America the two hundred and forty-seventh.

Billing code 3395-F3-P

[FR Doc. 2022-22810

Filed 10-18-22; 8:45 am]

Billing code 4310-10-C